SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB); Office of Management and Budget, Attn: Desk Officer for SSA, Fax: 202-395-6974, Email address: OIRA_Submission@omb.eop.gov.

(SSA); Social Security Administration, OLCA, Attn: Reports Clearance Director, 3100 West High Rise, 6401 Security Blvd., Baltimore, MD 21235, Fax: 410-966-2830, Email address: OR.Reports.Clearance@ssa.gov.

I. The information collection below is pending at SSA. SSA will submit it to OMB within 60 days from the date of this notice. To be sure we consider your comments, we must receive them no later than December 9, 2014. Individuals can obtain copies of the collection instruments by writing to the above email address.

Statement of Funds You Provided to Another and Statement of Funds You Received—20 CFR 416.1103(f)—0960-0481. SSA uses Forms SSA-2854 (Statement of Funds You Provided to Another) and SSA-2855 (Statement of Funds You Received) to gather information to verify if a loan is bona fide for Supplemental Security Income (SSI) recipients. Form SSA-2854 asks the lender for details on the transaction, and Form SSA-2855 asks the borrower the same basic questions independently. Agency personnel then compare the two statements, gather evidence if needed, and make a decision on the validity of the bona fide status of the loan. For SSI purposes, we consider a loan bona fide if it meets these requirements:

• Must be between a borrower and lender with the understanding that the borrower has an obligation to repay the money;

• Must be in effect at the time the cash goes to the borrower, that is, the agreement cannot come after the cash is paid; and

• Must be enforceable under State law, often there are additional requirements from the State.

SSA collects this information at the time of initial application for SSI or at any point when an individual alleges being party to an informal loan while receiving SSI. SSA collects information on the informal loan through both interviews and mailed forms. The agency's field personnel conduct the interviews and mail the form(s) for completion, as needed. The respondents are SSI recipients and applicants, and individuals who lend money to them.

Type of Request: Revision of an OMB-approved information collection.

Modality of completion | Number of respondents | Frequency of response | Average burden per response (minutes) | Estimated total annual burden (hours)
SSA-2854 | 20,000 | 1 | 10 | 3,333
SSA-2855 | 20,000 | 1 | 10 | 3,333
Totals | 40,000 |  |  | 6,666

II. SSA submitted the information collections below to OMB for clearance. Your comments regarding the information collections would be most useful if OMB and SSA receive them 30 days from the date of this publication. To be sure we consider your comments, we must receive them no later than November 10, 2014. Individuals can obtain copies of the OMB clearance packages by writing to OR.Reports.Clearance@ssa.gov.

1. Application for Supplemental Security Income—20 CFR 416.207 and 416.305-416.335, Subpart C—0960-0229. The SSI program provides aged, blind, and disabled individuals who have little or no income, with funds for food, clothing, and shelter. Individuals complete Form SSA-8000 to apply for SSI. SSA uses the information from paper Form SSA-8000 and its electronic intranet counterpart, the Modernized SSI Claims Systems (MSSICS), to determine: (1) Whether SSI claimants meet all statutory and regulatory eligibility requirements; and (2) SSI payment amounts. The respondents are applicants for SSI or their representative payees.

Note: This is a correction notice. SSA published this information collection as an extension on August 8, 2014, at 79 FR 46293. Since we are revising the Paperwork Reduction Act Statement, this is now a revision of an OMB-approved information collection.

Type of Request: Revision of an OMB-approved information collection.

Modality of completion | Number of respondents | Frequency of response | Average burden per response (minutes) | Estimated total annual burden (hours)
SSA-8000, Paper Version | 39,295 | 1 | 41 | 26,852
MSSICS Version | 211,802 | 1 | 36 | 127,081
MSSICS with Signature Proxy (attestation) | 1,713,671 | 1 | 35 | 999,641
Totals | 1,964,768 |  |  | 1,153,574

2. General Request for Social Security Records—eFOIA—20 CFR 402.130—0960-0716. Interested members of the public use this electronic request to ask SSA for information under the Freedom of Information Act (FOIA). SSA also uses this information to track the number and type of requests; fees charged; payment amounts; and SSA responds to public requests within the required 20 days. Respondents are members of the public including individuals, institutions, or agencies requesting information or documents under FOIA.

Type of Request: Revision of an OMB-approved information collection.

Modality of completion | Number of respondents | Frequency of response | Average burden per response (minutes) | Estimated total annual burden (hours)
eFOIA | 2,500 | 1 | 3 | 125

3. Incoming and Outgoing Intergovernmental Personnel Act Assignment Agreement—5 CFR 334—0960-0792. The Intergovernmental Personnel Act (IPA) mobility program provides for the temporary assignment of civilian personnel between the Federal Government and State and local governments; colleges and universities; Indian tribal governments; federally-funded research and development centers; and other eligible organizations. The Office of Personnel Management (OPM) created a generic form, the OF-69, for agencies to use as a template when collecting information for the IPA assignment. The OF-69 collects specific information about the agreement including: (1) The enrolled employee's name, Social Security number, job title, salary, classification, and address; (2) the type of assignment; (3) the reimbursement arrangement; and (4) an explanation as to how the assignment benefits both SSA and the non-federal organization involved in the exchange. OPM directs agencies to use their own forms for recording these agreements. Accordingly, SSA modified the OF-69 to meet our needs, creating the SSA-187 for incoming employees and the SSA-188 for outgoing employees. Respondents are the individuals we describe above who participate in the IPA exchange with SSA.

Type of Request: Revision of an OMB-approved information collection.

Modality of completion | Number of respondents | Frequency of response | Average burden per response (minutes) | Estimated total annual burden (hours)
Non-Federal employee | 10 | 1 | 30 | 5
Non-Federal employer signers | 20 | 1 | 5 | 2
Totals | 30 |  |  | 7

Dated: October 6, 2014.
Faye Lipsky,
Reports Clearance Director, Social Security Administration.

[FR Doc. 2014-24231 Filed 10-9-14; 8:45 am]

BILLING CODE 4191-02-P